DEPARTMENT OF HOMELAND SECURITY

Coast Guard

33 CFR Part 117

[CGD05-06-040]

RIN 1625-AA-09

Drawbridge Operation Regulations; Potomac River, Between Maryland and Virginia

AGENCY: Coast Guard, DHS.

ACTION: Notice of temporary deviation from regulations.

SUMMARY: The Commander, Fifth Coast Guard District, has approved a temporary deviation from the regulations governing the operation of the Woodrow Wilson Memorial (I-95) Bridge, mile 103.8, across the Potomac River between Alexandria, Virginia and Oxon Hill, Maryland. This deviation allows the drawbridge to remain closed-to-navigation from 8 p.m. on June 9, 2006, until 5 a.m. on June 12, 2006; and from 8 p.m. on July 14, 2006, until 5 a.m. on July 17, 2006, to facilitate the Outer and Inner Loop shifts of vehicular traffic for the new Woodrow Wilson Bridge construction project.

DATES: This deviation is effective from 8 p.m. on June 9, 2006, until 5 a.m. on July 17, 2006.

ADDRESSES: Materials referred to in this document are available for inspection or copying at Commander (dpb), Fifth Coast Guard District, Federal Building, 1st Floor, 431 Crawford Street, Portsmouth, VA 23704-5004 between 8 a.m. and 4 p.m., Monday through Friday, except Federal holidays. The telephone number is (757) 398-6222. Commander (dpb), Fifth Coast Guard District maintains the public docket for this temporary deviation.

FOR FURTHER INFORMATION CONTACT: Waverly W. Gregory, Jr., Bridge Administrator, Fifth Coast Guard District, at (757) 398-6222.

SUPPLEMENTARY INFORMATION: The existing Woodrow Wilson Memorial (I-95) Bridge has a vertical clearance in the closed position to vessel of 50 feet at mean high water and 52 feet at mean low water.

Coordinators for the construction of the new Woodrow Wilson Bridge Project requested a temporary deviation from the current operating regulation for the existing Woodrow Wilson Memorial (I-95) Bridge set out in 33 CFR 117.255(a). The coordinators requested the temporary deviation to close the existing drawbridge to navigation to accommodate the shifting of vehicular traffic on the Outer and Inner Loops of the Capital Beltway/I-95 North. The Outer and Inner Loops of the Capital Beltway/I-95 North will be reduced from three lanes to only one lane between the Route 1 Interchange and the Wilson Bridge. Project traffic engineers anticipate traffic impacts to peak on Saturday afternoon, with 10 to 15 mile backups and delays of 60 to 90 minutes. Maintaining the existing drawbridge in the closed-to-navigation position from 8 p.m. on Friday, June 9, 2006, through 5 a.m. on Monday, June 12, 2006 and from 8 p.m. on Friday, July 14, 2006, through 5 a.m. on Monday, July 17, 2006, will help reduce the impact to vehicular traffic during these phases of new bridge construction.

The Coast Guard has informed the known users of the waterway of the closure period for the bridge so that these vessels can arrange their transits to minimize any impact caused by the temporary deviation.

In accordance with 33 CFR 117.35(c), this work will be performed with all due speed in order to return the bridge to normal operation as soon as possible. This deviation from the operating regulations is authorized under 33 CFR 117.35.

Dated: April 13, 2006.
Waverly W. Gregory, Jr.,
Chief, Bridge Administration Branch, Fifth Coast Guard District.

[FR Doc. 06-3783 Filed 4-20-06; 8:45 am]

BILLING CODE 4910-15-P